DEPARTMENT OF COMMERCE

National Oceanic and Atmospheric Administration

RIN 0648-XZ31

Endangered Species; File No. 14176

AGENCY: National Marine Fisheries Service (NMFS), National Oceanic and Atmospheric Administration (NOAA), Commerce.

ACTION: Issuance of permit.

SUMMARY: Notice is hereby given that Michael Mangold (Permit Holder and Principal Investigator), United States Fish and Wildlife Service's Maryland Fishery Resource Office, 177 Admiral Cochrane Drive, Annapolis, MD 21401 has been issued a permit to take shortnose sturgeon for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9328; fax (978)281-9394.

FOR FURTHER INFORMATION CONTACT: Colette Cairns or Malcolm Mohead, (301)713-2289.

SUPPLEMENTARY INFORMATION: On March 19, 2010, notice was published in the Federal Register (75 FR 13256) that a request for a scientific research permit to take shortnose sturgeon had been submitted by the above-named Michael Mangold, U.S. Fish and Wildlife Service. The requested permit has been issued under the authority of the Endangered Species Act of 1973, as amended (ESA; 16 U.S.C. 1531 et seq.) and the regulations governing the taking, importing, and exporting of endangered and threatened species (50 CFR parts 222-226).

The applicant is authorized to conduct a five-year scientific study determining biological and life history information on shortnose sturgeon in the Potomac River. The permit authorizes non-lethal sampling with anchored gill nets, capturing up to 30 fish annually. Each fish will be captured, weighed, measured, PIT and Floy tagged, and sampled for genetic tissue analysis. A sub-set of 10 fish will be acoustically tagged, 5 internally and 5 externally, released, and tracked, determining seasonal movement and habitat selection. Additionally, the applicant is authorized to use D-nets lethally collecting up to 20 shortnose sturgeon in early life stages annually to estimate spawning success and periodicity.

Issuance of this permit, as required by the ESA, was based on a finding that such permit: (1) was applied for in good faith; (2) will not operate to the disadvantage of such endangered or threatened species; and (3) is consistent with the purposes and policies set forth in section 2 of the ESA.

Dated: September 27, 2010.
P. Michael Payne,
Chief, Permits, Conservation and Education Division, Office of Protected Resources, National Marine Fisheries Service.

[FR Doc. 2010-24822 Filed 10-1-10; 8:45 am]

BILLING CODE 3510-22-S